DEPARTMENT OF STATE

[Public Notice 8880]

U.S. Department of State Advisory Committee on Private International Law (ACPIL): Public Meeting on Online Dispute Resolution (ODR)

The Office of the Assistant Legal Adviser for Private International Law, Department of State, hereby gives notice that the ACPIL ODR Study Group will hold a public meeting. The ACPIL ODR Study Group will meet to discuss the next session of the UNCITRAL ODR Working Group, scheduled for October 20-24, 2014 in Vienna. This is not a meeting of the full Advisory Committee.

The UNCITRAL ODR Working Group is charged with the development of legal instruments for resolving both business to business and business to consumer cross-border electronic commerce disputes. The Working Group is in the process of developing generic ODR procedural rules for resolution of cross-border electronic commerce disputes, along with separate legal instruments that may take the form of annexes such as guidelines for online dispute resolution providers and arbitrators. For the reports of the first eight sessions of the UNCITRAL ODR Working Group—December 13-17, 2010, in Vienna (A/CN.9/716); May 23-27, 2011, in New York (A/CN.9/721); Nov. 14-18, 2011, in Vienna (A/CN.9/739); May 21-25, 2012, in New York (A/CN.9/744); November 5-9, 2012, in Vienna (A/CN.9/762): May 20-24, 2013, in New York (A/CN.9/769); November 18-22, 2014, in Vienna (A/CN.9/795) and March 24-28, 2014, in New York (A/CN.9/801)—please follow the following link: http://www.uncitral.org/uncitral/commission/working_groups/3Online_Dispute_Resolution.html. Documents relating to the upcoming session of the Working Group are available on the same link.

Time and Place: The meeting of the ACPIL ODR Study Group will take place on Thursday October 2 from 10:00 a.m. to 1:00 p.m. EDT at 2430 E Street NW., South Building (SA 4) (Navy Hill), Room 356. Participants should arrive at Navy Hill before 9:45 a.m. for visitor screening. Participants will be met at the Navy Hill gate at 23rd and D Streets, NW., and will be escorted to the South Building. Persons arriving later will need to make arrangements for entry using the contact information provided below. If you are unable to attend the public meeting and would like to participate from a remote location, teleconferencing will be available.

Public Participation: This meeting is open to the public, subject to the capacity of the meeting room. Access to Navy Hill is strictly controlled. For preclearance purposes, those planning to attend in person are requested to send an email to PIL@state.gov providing full name, address, date of birth, citizenship, driver's license or passport number, affiliation, and email address. This will greatly facilitate entry. A member of the public needing reasonable accommodation should provide an email requesting such accommodation to pil@state.gov no later than a week before the meeting. Requests made after that date will be considered, but might not be able to be fulfilled. If you would like to participate by telephone, please email pil@state.gov to obtain the call-in number and other information. Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http: www.state.gov/documents/organization/103419.pdf for additional information.

Dated: September 17, 2014.
Michael J. Dennis,
Attorney-Adviser, Office of Private International Law, U.S. Department of State.

[FR Doc. 2014-22760 Filed 9-23-14; 8:45 am]

BILLING CODE 4710-08-P